DEPARTMENT OF THE INTERIOR

National Park Service

30-Day Notice of Intention To Request Clearance of Collection of Information; Opportunity for Public Comment

AGENCY: Department of Interior, National Park Service.

ACTION: Notice and request for comments.

SUMMARY: Under the provisions of the Paperwork Reduction Act of 1995 (Pub. L. 104-13,44 U.S.C., Chapter 3507) and 5 CFR Part 1320, Reporting and Record Keeping Requirements, the National Park Service (NPS) invites public comments on an extension of a currently approved information collection (OMB # 1024-0064).

DATES: Public comments on this Information Collection Request (ICR) will be accepted on or before January 4, 2010.

ADDRESSES: You may submit comments directly to the Desk Officer for the Department of the Interior (OMB #1024-0064), Office of Information and Regulatory Affairs, Office of Management and Budget (OMB), by fax at 202/395-5806, or by electronic mail at oira_docket@omb.eop.gov. Please also mail or hand carry a copy of your comments to Edward O. Kassman, Jr., Regulatory Specialist, Planning, Evaluation & Permits Branch, Geologic Resources Division, National Park Service, P.O. Box 25287, Lakewood, Colorado 80225; or via fax at (303) 987-6792 or via e-mail at Edward_Kassman@nps.gov.

FOR FURTHER INFORMATION CONTACT: Edward O. Kassman, Jr., Regulatory Specialist, Planning, Evaluation & Permits Branch, Geologic Resources Division, National Park Service, P.O. Box 25287, Lakewood, Colorado 80225; or via fax at (303) 987-6792 or via e-mail at Edward_Kassman@nps.gov. You are entitled to a copy of the entire ICR package free-of-charge. You may access this ICR at http://www.reginfo.gov/public/.

Comments Received on the 60-Day Federal Register Notice:

The NPS published a 60-day notice to solicit public comments on this ICR in the Federal Register on May 26, 2009 (74 FR 24871). The comment period closed on July 27, 2009. No comments were received on this notice.

SUPPLEMENTARY INFORMATION: OMB Control Number: 1024-0064.

Title: NPS/Minerals Management Program/Mining Claims and Non-Federal Oil and Gas Rights—36 CFR Part 9, Subpart A and Subpart B, respectively.

Form(s): None.

Type of Request: Extension of a currently approved collection of information.

Description of Need: The NPS regulates mineral development activities inside park boundaries on mining claims and on non-Federal oil and gas rights under regulations codified at 36 CFR part 9, subpart A (“9A regulations”), and 36 CFR part 9, subpart B (“9B Regulations”), respectively. The NPS promulgated both sets of regulations in the late 1970s. In the case of mining claims, the NPS promulgated the 9A regulations pursuant to congressional authority granted under the Mining in the Parks Act of 1976, 16 U.S.C. 1901 et seq., and individual park enabling statutes. For non-Federal oil and gas rights, the NPS regulates development activities pursuant to authority under the NPS Organic Act of 1916, 16 U.S.C. 1 et seq., and individual enabling statutes. As directed by Congress, the NPS developed the regulations in order to protect park resources and visitor values from the adverse impacts associated with mineral development in park boundaries.

Affected Public: Medium to large publicly owned companies and private entities.

Obligation to Respond: Required to receive a benefit.

Frequency of Response: 1 per respondent, 24 respondents per year.

Estimated total annual responses: 24 per year.

Estimated average completion time per response: 176 Hours.

Estimated annual reporting burden: 4224 hours.

Estimated annual nonhour cost burden: 0.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

An agency may not conduct or sponsor, and a person is not required to respond to a collection of information unless it displays a currently valid OMB control number.

Dated: December 01, 2009.
Cartina Miller,
NPS, Information Collection Clearance Officer.

[FR Doc. E9-29021 Filed 12-3-09; 8:45 am]

BILLING CODE P